DEPARTMENT OF COMMERCE

Foreign-Trade Zones Board

[Docket 35-2011]

Proposed Foreign-Trade Zone—Eloy, AZ; Application

An application has been submitted to the Foreign-Trade Zones Board (the Board) by the City of Eloy to establish a general-purpose foreign-trade zone at sites in Pinal County, Arizona, adjacent to the Phoenix U.S. Customs and Border Protection port of entry. The application was submitted pursuant to the provisions of the Foreign-Trade Zones Act, as amended (19 U.S.C. 81a-81u), and the regulations of the Board (15 CFR part 400). It was formally filed on May 23, 2011. The applicant is authorized to make the proposal under Arizona Statute 44-6501.

The proposed zone would be the fourth general-purpose zone serving the Phoenix U.S. Customs and Border Protection port of entry. The existing zones are as follows: FTZ 75, Phoenix, Arizona (Grantee: City of Phoenix, Board Order 185, 3/25/82); FTZ 221, Mesa, Arizona (Grantee: City of Mesa, Board Order 883, 4/25/97); and, FTZ 277, Western Maricopa County, Arizona (Grantee: Greater Maricopa Foreign Trade Zone, Inc.).

The proposed zone would consist of 4 sites covering approximately 918 acres in the Eloy (Pinal County), Arizona area: Proposed Site 1 (81 acres)—two parcels located at the intersection of Houser Road and Eleven Mile Corner Road, Eloy; proposed Site 2 (277 acres)—Sunshine Industrial Park, located at the intersection of Interstate 10 and Sunshine Boulevard, Eloy; proposed Site 3 (279 acres)—Toltec Business Park, located at the intersection of Houser Road and Toltec Road, Eloy; and, proposed Site 4 (293 acres)—Red Rock Industrial Park, located along Interstate 10 and the Union Pacific Railroad line opposite Sasco Road, Red Rock. The sites are owned by the City of Eloy (Site 1), Walton International Group (USA), Inc. and Walton Arizona, LLC (Site 2), Walton International Group (USA), Inc. (Site 3) and Walton International Group (USA), Inc and Walton Arizona, LLC (Site 4).

The application indicates that the need for zone services in the southern Pinal County area is not adequately served by any existing zone. Several firms have indicated an interest in using zone procedures for warehousing/distribution activities for a variety of products. Specific manufacturing approvals are not being sought at this time. Such requests would be made to the Board on a case-by-case basis.

In accordance with the Board's regulations, Christopher Kemp of the FTZ Staff is designated examiner to evaluate and analyze the facts and information presented in the application and case record and to report findings and recommendations to the Board.

Public comment is invited from interested parties. Submissions (original and 3 copies) shall be addressed to the Board's Executive Secretary at the address below. The closing period for their receipt is July 26, 2011. Rebuttal comments in response to material submitted during the foregoing period may be submitted during the subsequent 15-day period to August 10, 2011.

A copy of the application will be available for public inspection at the Office of the Executive Secretary, Foreign-Trade Zones Board, Room 2111, U.S. Department of Commerce, 1401 Constitution Avenue, NW., Washington, DC 20230-0002, and in the “Reading Room” section of the Board's Web site, which is accessible via http://www.trade.gov/ftz.

For further information, contact Christopher Kemp at Christopher.Kemp@trade.gov or (202) 482-0862.

Dated: May 23, 2011.
Andrew McGilvray,
Executive Secretary.

[FR Doc. 2011-13268 Filed 5-26-11; 8:45 am]

BILLING CODE P